DEPARTMENT OF HEALTH AND HUMAN SERVICES

Agency for Toxic Substances and Disease Registry

[ATSDR-186]

Availability of the Draft Online Learning Program, The Public Health Assessment Process and the Community, Public Comment Release

AGENCY: Agency for Toxic Substances and Disease Registry (ATSDR), Department of Health and Human Services (HHS).

ACTION: Notice of availability and request for public comment on the draft online learning program, The Public Health Assessment Process and the Community. This program was developed to provide community members with information about the ATSDR public health assessment process through interactive learning using the Internet. The program also provides a tool that ATSDR's cooperative agreement partners (agents of ATSDR) can use to introduce new staff members to concepts used in the public health assessment process and to facilitate communications with community members when discussing the public health assessment process.

SUMMARY: ATSDR conducts public health assessments to evaluate whether people have come in contact with hazardous substances released into the environment and whether contact with the substances has affected the health of those people exposed to the hazardous substances.

The process used to conduct public health assessments includes gathering information from community members about how they might have come in contact with hazardous substances released into the environment and the concerns they have about the effect of the substances on their health. In addition to information gathered from community members, ATSDR also evaluates environmental data pertaining to a particular release, evaluates toxicologic and epidemiologic data relevant to exposures, and evaluates existing health outcome data if appropriate. Recommendations might be made to eliminate or reduce exposure to harmful levels of hazardous substances that have been released into the environment. The online learning program provides information on the basic concepts used by ATSDR staff and agents of ATSDR in conducting public health assessments.

This online learning program is intended to assist community members in understanding the ATSDR public health assessment process and to provide additional information concerning the process that may not be available through other forums. Because interaction with community members is a critical component of the public health assessment process, ATSDR believes that public comments may help us improve the quality of the program. All comments received during the public comment period will be considered when making improvements to the program.

Availability: The draft online program, The Public Health Assessment Process and the Community, will be available to the public on or about October 15, 2002. The close of the comment period will be 60 days from the date of publication of this notice in the Federal Register and will be indicated on the first page of the Web site. Comments received after close of the public comment period will be considered at the discretion of ATSDR based upon what is deemed to be in the best interest of the general public.

ADDRESSES: Requests for more information about accessing the online learning program should be sent to Chief, Program Evaluation, Records, and Information Services Branch; Agency for Toxic Substances and Disease Registry; 1600 Clifton Road, NE, MS E-56; Atlanta, GA 30333. The online learning program may be accessed at the ATSDR home page Training section at www.atsdr.cdc.gov/training/public-health-assessment-overview/.

Comments may be submitted online through the “Feedback” section of the program, which is accessible through a link at the top of each page. You may also send written comments and supporting documents to the address provided in the previous paragraph. Comments should be received by the end of the comment period. All written comments and data submitted in response to this notice and the draft online learning program should bear the docket control number ATSDR-186.

FOR FURTHER INFORMATION CONTACT: Information may be obtained by contacting Bob Kay, telephone (404) 498-0382, ATSDR (Mailstop E-56) or Gail Godfrey, telephone (404) 498-0432, (Mailstop E-32), 1600 Clifton Road, NE, Atlanta, Georgia 30333, or call toll free 1-888-42-ATSDR, 1-888-422-8737. You may also e-mail Bob Kay at bkay@cdc.gov or Gail Godfrey at ggodfrey@cdc.gov.

SUPPLEMENTARY INFORMATION: ATSDR is mandated to conduct public health assessments under section 104(i) of the Comprehensive Environmental Response, Compensation, and Liability Act of 1980 (CERCLA) [42 U.S.C. 9604(i)] and the Resource Conservation and Recovery Act (RCRA) [42 U.S.C. 6939a(c)].

The general procedures for the conduct of public health assessments are included in the ATSDR Final Rule on Health Assessments and Health Effects Studies of Hazardous Substances Releases and Facilities (55 FR 5136, February 13, 1990, codified at 42 CFR part 90).

Areas emphasized in the online learning program include community involvement, exposure assessment, weight-of-evidence approaches to decision making, and developing public health action plans to address any public health hazards found during investigations.

The online learning program may be used by individuals to learn more about the public health assessment process, by community groups during meetings, and by individuals and groups as a communication tool when discussing concerns with the public health assessment team assigned to a site in their community. The program may also be used by agents of ATSDR to introduce new staff to the concepts of the public health assessment process and as a tool to stimulate communications with community members.

This notice announces the projected availability of the draft online learning program. The program has undergone extensive internal review.

ATSDR encourages the public's participation and comment on the further development of this online learning program.

Dated: October 18, 2002.
Georgi Jones,
Director, Office of Policy and External Affairs, Agency for Toxic Substances and Disease Registry.

[FR Doc. 02-27084 Filed 10-23-02; 8:45 am]

BILLING CODE 4163-70-P